DEPARTMENT OF THE INTERIOR

Bureau of Land Management

[AK-930-07-1310-DS]

Notice of Availability and Announcement of Public Meetings and Alaska National Interest Lands Conservation Act (ANILCA) Subsistence Hearings; Northeast National Petroleum Reserve—Alaska Supplemental Draft Integrated Activity Plan/Environmental Impact Statement

AGENCY: Bureau of Land Management (BLM), Interior.

ACTION: Notice of Availability and Announcement of Public Meetings and ANILCA Subsistence Hearings.

SUMMARY: The Bureau of Land Management (BLM), Alaska State Office, is issuing the Northeast National Petroleum Reserve—Alaska (NPR-A) Supplemental Draft Integrated Activity Plan/Environmental Impact Statement (IAP/EIS) for public comment and announces pending Draft IAP/EIS public meetings/ANILCA subsistence hearings to receive comments on the IAP/EIS and its findings regarding the ANILCA § 810 analysis of impacts to subsistence use.

DATES: Written comments on the Draft IAP/EIS must be received within 60 days following the date the Environmental Protection Agency publishes their Notice of Availability in the Federal Register. Draft IAP/EIS public meetings and/or ANILCA subsistence hearings will be held in the following communities in Alaska: Anaktuvuk Pass, Anchorage, Atqasuk, Barrow, Fairbanks, Nuiqsut, and Wainwright. The date, time, and location of the meetings will be announced through public notices, media news releases, and/or other mailings.

ADDRESSES: Written comments should be sent to: Northeast NPR-A Supplemental IAP/EIS Comments, ENSR Project Office, 1835 South Bragaw Street, Suite 490, Anchorage, Alaska, 99508; faxed to 888-907-3677; hand delivered to ENSR at the above address, or to the BLM Public Information Center in the Federal Building, 222 West 7th Avenue, Anchorage, Alaska, 99513; or forwarded electronically through the project Web site at http://www.blm.gov/ak/st/en/prog/planning/npra_general/ne_npra/ne_npr-a_supplement.html. Before including your address, phone number, e-mail address, or other personal identifying information in your comment, you should be aware that your entire comment—including your personal identifying information—may be made publicly available at any time. While you can ask us in your comment to withhold your personal identifying information from public review, we cannot guarantee that we will be able to do so.

The Draft IAP/EIS can be reviewed at BLM's Alaska Web site at http://www.blm.gov/ak/st/en/prog/planning/npra_general/ne_npra/ne_npr-a_supplement.html. CD or paper copies may be requested by calling Jim Ducker, BLM's project lead at 907-271-3130.

FOR FURTHER INFORMATION CONTACT: Jim Ducker, BLM Alaska State Office, 907-271-3130.

SUPPLEMENTARY INFORMATION: This Supplemental IAP/EIS supplements the Northeast NPR-A Amended IAP/EIS, which was completed in January 2005 and was followed with a Record of Decision in January 2006. On September 25, 2006, the U.S. District Court for the District of Alaska found the Amended IAP/EIS analysis failed to fully consider the cumulative effects of oil and gas leasing in the planning area and in the adjacent Northwest NPR—A planning area and vacated the Record of Decision for the Amended IAP/EIS. The supplemental IAP/EIS provides additional analysis necessary to fully address the deficiencies noted by the court and updates relevant sections of the document with information that has become available since the completion of the Amended IAP/EIS. The public is especially encouraged to comment on this additional and updated analysis, and to identify measures that could reduce impacts to resources or uses that could be impacted by oil and gas activities. Like the Amended IAP/EIS, the Supplemental IAP/EIS considers additional oil and gas leasing opportunities in the same approximately 4.6 million acres in the northeast portion of the National Petroleum Reserve—Alaska. The Supplemental IAP/EIS considers the same issues and almost identical alternatives as were addressed in the Amended IAP/EIS.

Section 810 of the Alaska National Interest Lands Conservation Act requires the BLM to evaluate the effects of the alternatives presented in this Draft IAP/EIS on subsistence activities, and to hold public hearings if it finds that any alternative may significantly restrict subsistence activities. The analysis of environmental consequences indicates that the cumulative effects, when taken in conjunction with all action alternatives meets the “may significantly restrict threshold” for each subsistence use, resulting in a positive finding pursuant to ANILCA § 810.

Therefore, the BLM will hold public hearings on subsistence in conjunction with the public meetings in the potentially affected communities of Anaktuvuk Pass, Atqasuk, Barrow, Nuiqsut, and Wainwright.

Thomas P. Lonnie,
State Director.

[FR Doc. E7-16694 Filed 8-23-07; 8:45 am]

BILLING CODE 4310-JA-P